DEPARTMENT OF AGRICULTURE

Forest Service

Iyouktug Timber Sales, Hoonah Ranger District, Tongass National Forest

AGENCY: Forest Service, USDA.

ACTION: Notice of Intent to Prepare an Environmental Impact Statement.

SUMMARY: The Department of Agriculture, Forest Service will prepare an Environmental Impact Statement (EIS) on a proposal to harvest timber in the Iyouktug valley on Chicagof Island, Hoonah Ranger District of the Tongass National Forest. The Proposed Action is to harvest an estimated 57 million board feet (MMBF) of timber from approximately 4,430 acres of forested land through various small sales, and one or more larger sales, offered over a 10-year period. Approximately 5 miles of National Forest System road would be constructed, and 12 miles of temporary road would be constructed; temporary road would be closed after timber management activities have been completed. The Proposed Action would include harvest of approximately 2,050 acres and construction of approximately 3 miles of National Forest System road and 6 miles of temporary road in inventoried roadless areas. The existing Long Island log transfer facility will be used as needed. In order to meet Tongass Land and Resource Management Plan (Forest Plan) criteria for old growth reserves, a non-significant Forest Plan amendment to change the boundaries of the small old-growth habitat reserves (OGRs) will be part of the Proposed Action.

DATES: Opportunities for comment are available throughout the analysis process. Those interested in receiving a scoping package should contact us at the address below. Comments concerning this stage of the project will be most helpful if received by October 2, 2006. Additional opportunities for comment will be provided after release of the Draft EIS, which is expected to be published September 2007. A 45-day comment period will begin the date the Environmental Protection Agency (EPA) publishes the Notice of Availability in the Federal Register. The final environmental impact statement and decision are expected December 2007.

ADDRESSES: Send or hand deliver written comments to: IDT Leader, Sitka Ranger District, Tongass National Forest, Attn: Iyouktug Timber Sales EIS, 204 Siginaka Way, Sitka, AK 99835. Send written e-mail comments to: comments-alaska-tongass-hoonah@fs.fed.us with “Iyouktug EIS” in the subject line. In all correspondence, include your name, address, and organization name if you are commenting as a representative of an organization.

FOR FURTHER INFORMATION CONTACT: Chris Budke, Acting District Ranger, Hoonah Ranger District, P.O. Box 135, Hoonah, AK 99829, phone (907) 945-3631 or Hans von Rekowski, Team Leader, Sitka Ranger District, 204 Siginaka Way, Sitka, AK 99835, phone (907) 747-4217.

SUPPLEMENTARY INFORMATION: This EIS will tier to the EIS for the 1997 Tongass Land and Resource Management Plan (Forest Plan) that provides overall guidance, goals, objectives, standards, guidelines, and management area direction to achieve the desired condition for the project area.

The project area is administered by the Hoonah Ranger District of the Tongass National Forest, Hoonah, Alaska and occurs in Value Comparison Units (VCU) 2080, 2090, and 2100 as designated by the Forest Plan. The project area includes approximately 40,650 acres. The Iyouktug project area is located northwest of Iyoukeen Peninsula on the northeastern part of Chichagof Island about 12 air miles east-southeast of Hoonah, Alaska, 30 air miles west of Juneau, Alaska, and 15 air miles northeast of Tenakee Springs. The project area lies north of Freshwater Bay, west of False Bay and Chatham Strait, and south of Icy Strait, along National Forest System Road #8530; it lies within the Iyouktug and Suntaheen Creek valleys and includes Whitestone Harbor. The project area is in Townships 43-44 South, and Ranges 62-64 East, Copper River Meridian.

Purpose and Need

The purpose and need for the Iyouktug Timber Sales project is to: (1) Maintain and promote wood production from suitable timber lands, providing a supply of wood to meet society's needs; (2) Seek to provide a stable supply of timber from the Tongass National Forest which meets the annual planning-cycle market demand, while managing these lands for sustained long-term yields, consistent with sound multiple-use and sustained-yield objectives; (3) Seek to provide a long-term, stable supply of timber for local sawmills and timber operators; and (4) Provide a diversity of opportunities for resource uses that contribute to the local and regional economies of Southeast Alaska to support a wide range of natural resource employment opportunities within Southeast Alaska's communities. The Iyouktug Timber Sales Proposed Action is consistent with the 1997 Tongass Forest Plan.

Proposed Action

The Proposed Action for the Iyouktug project area is to harvest an estimated 57 million board feet (MMBF) of timber from approximately 4,430 acres of forested land while meeting Forest Plan standards. The timber would be offered through various small sales, and one or more large sales over a 10-year period following the Record of Decision (ROD). It is anticipated that 1 to 5 MMBF (averaging 3 MMBF) of timber harvested through ground-based logging systems would be offered annually as small sales. The large sale(s) would be composed primarily of units harvested through helicopter logging. The larger timber sale(s) would be offered concurrently with the small sales.

Timber harvest would occur on an estimated 4,430 acres of the 9,290 acres within the entire timber unit pool. Some areas in the timber unit pool are not being considered for timber harvest in this Proposed Action; however, when other alternatives are developed, we may propose harvest in some of the other units in the pool. The Proposed Action includes approximately 2,680 acres of helicopter and 1,750 acres of ground-based shovel and cable yarding systems. Areas suitable for ground-based logging would be harvested either even-aged (clearcut) or uneven-aged (group or single tree selection) harvest prescriptions depending on terrain, tree species, economics, or environmental concerns. Helicopter would be uneven-aged harvest with no more than 40% of the harvest-unit volume removed. All timber harvest will use silvicultural prescriptions suited to meet the standards and guidelines of the Tongass Forest Plan.

The Proposed Action includes construction of approximately 5 miles of National Forest System road and 12 miles of temporary road; it would also include reconstruction of 3 miles of existing road. The existing Long Island Log Transfer Facility (LTF) will be utilized for these sales, if needed.

Harvest activities are proposed to occur only on land allocated to the Timber Production Land Use Designation (LUD); the other LUDs in the project area are Scenic Viewshed and Old-growth Habitat.

The Iyouktug project area includes two small old-growth habitat reserves (OGRs) and a portion of a large OGR as designated in the Forest Plan. The small OGRs are located in Value Comparison Units (VCUs) 2080, 2090, and 2100; the portion of the large OGR is a VCU 2100. To meet Forest Plan criteria for old-growth reserves, changes to the small OGR boundaries will be proposed as part of this project. A non-significant Forest Plan amendment will be required to address these changes.

Harvest is proposed in unroaded areas including parts of three inventoried roadless areas. Approximately 25,590 acres of the Iyouktug project area are in three inventoried roadless areas; the Proposed Action would include harvest of approximately 2,050 acres and construction of approximately 3 miles of National Forest System road and 6 miles of temporary road in inventoried roadless areas.

Preliminary Issues

Tentative issues identified for analysis in this EIS relate to the location and design of small Old-Growth Habitat Reserves and connectivity, subsistence use, economics, and timber harvest in roadless areas. Resource concerns that will be considered and discussed in the analysis include heritage resources, fisheries, karst features, steep slopes, threatened, endangered, and sensitive species, scenery, and the potential for cumulative watershed impacts in the project area.

Public Participation

Public participation has been an integral component of the analysis process and will continue to be especially important at several points during the analysis. This Notice of intent (NOI) and the project scoping letter initiate the scoping process that guides the development of the Environmental Impact Statement. The Forest Service will be seeking information, comments and suggestions from Tribal Governments, Federal, State, and local agencies, as well as individuals and organizations that may be interested in, or affected by, the Proposed Action. This process will determine the scope of the project and significant issues to be analyzed in depth in the Environmental Impact Statement. A scoping letter has recently been mailed to interested people and organizations; the scoping letter is available upon request. The letter briefly describes the project and project area, the purpose and need for the project, the Proposed Action, and invites public comment. An open house meeting will be held in Hoonah, Alaska on September 6, 2006, at the Hoonah Ranger District Office. The meeting will be announced in local newspapers and on local radio stations.

Through the scoping process the Interdisciplinary Planning Team will review comments received during the scoping period to determine which issues are significant and within the scope of this project. The team will develop a range of alternatives to address the significant issues. One of these will be the “No Action” alternative, in which no additional timber harvest or road construction is proposed. Other alternatives will consider various levels and locations of timber harvest in response to issues and non-timber objectives. The team will then prepare a Draft Environmental Impact Statement (DEIS) that will display the alternatives and the direct, indirect, and cumulative effects of each alternative. Non-significant issues or those issues that have been covered by a previous environmental review will be discussed briefly and documented in the EIS or project planning record.

The DEIS is expected to be filed with the Environmental Protection Agency (EPA) by September 2007. The comment period on the DEIS will be 45 days from the date the EPA publishes the Notice of Availability in the Federal Register. In addition to commenting on the Proposed Action and the DEIS when it is released, agencies and other interested persons or groups are invited to write to or speak with Forest Service officials at any time during the planning process. Subsistence hearings, as provided for in Title VIII, section 810 of the Alaska National Interest Lands Conservation Act (ANILCA), will be conducted during the comment period on the Draft Environmental Impact Statement.

The Forest Service believes that at this early scoping stage, it is important to inform reviewers of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the Draft Environmental Impact Statement stage but that are not raised until after completion of the Final Environmental Impact Statement may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this Proposed Action participate by the close of the 45-day comment period so that comments and objections are made available to the Forest Service at a time during which the agency can meaningfully consider them and respond to them in the Final Environmental Impact Statement.

To assist the Forest Service in identifying and considering issues and concerns on the Proposed Action, comments on the Draft Environmental Impact Statement should be as specific as possible. It is also helpful if comments refer to specific pages or chapters of the draft statement. Comments may also address the adequacy of the DEIS or the merits of the alternatives formulated and discussed in the statement. Reviewers may wish to refer to the Council on Environmental Quality regulations for implementing the procedural provisions of the National Environmental Policy Act at 40 CFR 1503.3 in addressing these points. Comments received, including the names and addresses of those who comment, will be considered part of the public record on this proposal and will be available for public inspection.

Comments submitted anonymously will be accepted and considered; however, those who submit anonymous comments will not have standing to appeal the subsequent decision under 36 CFR part 215. Additionally, pursuant to 7 CFR 1.27(d), any person may request that the agency withhold a submission from the public record by showing how the Freedom of Information Act (FOIA) permits such confidentiality. Persons requesting such confidentiality should be aware that, under the FOIA, confidentiality may be granted in only very limited circumstances, such as to protect trade secrets. The Forest Service will inform persons requesting confidentiality of the agency's decision regarding their request, and where the request is denied, the agency will return the submission and notify the requester that the comments may be resubmitted with or without the name and address within seven days.

Permits or Licenses Required

The permits listed below are required to implement the project, if the Long Island LTF is used. These permits are current and are held by Huna Totem Corporation. The Forest Service has a cost-share agreement with the Huna Totem Corporation to utilize the LTF under the following permits:

1. U.S. Army Corps of Engineers

—Approval of discharge of dredged or fill material into the waters of the United States under Section 404 of the Clean Water Act;

—Approval of the construction of structures or work in navigable waters of the United States under section 10 of the Rivers and Harbors Act of 1899;

2. U.S. Environmental Protection Agency

—Storm water discharge permit/National Pollutant Discharge Elimination System review under section 402 of the Clean Water Act (402);

—Review Spill Prevention Control and Countermeasure Plan;

3. State of Alaska, Department of Environmental Conservation

—Certification of Compliance with Alaska Water Quality Standards (401 Certification);

—Solid Waste Disposal Permit;

4. State of Alaska, Department of Natural Resources (DNR)

—Authorization for occupancy and use of tidelands and submerged lands. In addition to the above permits, the Forest Service is required to obtain concurrence from the State of Alaska, Office of Project Management & Permitting (in the Department of Natural Resources) on a coastal zone consistency determination to proceed with the Proposed Action.

Responsible Official

The Forest Supervisor, Tongass National Forest, Federal Building, 648 Mission Street, Ketchikan, Alaska 99901, is the responsible official.

Nature of the Decision To Be Made

The responsible official will decide whether or not to authorize timber harvest within the Iyouktug project area, and if so, how this timber would be harvested. The responsible official would also determine the location of OGR boundaries. The Responsible Official will consider the comments, responses, and disclosure of environmental consequences displayed in the FEIS, and applicable laws, regulations, and policies in making a decision. The Responsible Official will state the decision and the rationale for the decision in the Record of Decision (ROD).

(Authority: 40 CFR 1501.7 and 1508.22; Forest Service Handbook 1909.15, Section 21)
Dated: August 21, 2006.
Forrest Cole,
Forest Supervisor.

[FR Doc. 06-7198 Filed 8-25-06; 8:45 am]

BILLING CODE 3410-11-M